DEPARTMENT OF THE INTERIOR

National Park Service

[NPS-WASO-NRNHL-24812; PPWOCRADI0, PCU00RP14.R50000]

National Register of Historic Places; Notification of Pending Nominations and Related Actions

AGENCY: National Park Service, Interior.

ACTION: Notice.

SUMMARY: The National Park Service is soliciting comments on the significance of properties nominated before December 16, 2017, for listing or related actions in the National Register of Historic Places.

DATES: Comments should be submitted by February 2, 2018.

ADDRESSES: Comments may be sent via U.S. Postal Service and all other carriers to the National Register of Historic Places, National Park Service, 1849 C St. NW, MS 7228, Washington, DC 20240.

SUPPLEMENTARY INFORMATION:

The properties listed in this notice are being considered for listing or related actions in the National Register of Historic Places. Nominations for their consideration were received by the National Park Service before December 16, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARKANSAS

Benton County

Gentry Grand Army of the Republic Monument, NE Sec. of Gentry Cemetery, Pioneer Ln., Gentry, MP100001990

Highfill School (No. 71), 11978 Highfill Ave., Highfill, SG100001991

Faulkner County

College Avenue Historic District, S side 1600, 1700, 1800, 1900 & N side 1800 blks. College Ave., Conway, SG100001993

Fulton County

Green Valley Homestead, 2605 Sturkie Rd., Salem vicinity, SG100001994

Garland County

Greenwood School, 1425 Greenwood Ave., Hot Springs, SG100001995

Mississippi County

Blytheville Air Force Base Strategic Air Command (SAC) Alert and Weapons Storage Areas, Historic District, 4701 Memorial Drive, Blytheville, SG100001999

Farm No. 266, 4791 W Cty. Rd. 924, Dyess vicinity, MP100002000

Pulaski County

Arkansas Teachers Association Headquarters Building and Professional Services Building, 1304 & 1306 Wright Ave., Little Rock, SG100002002

Sebastian County

Elmwood Cemetery, SW of intersection of Zero & S 24th Sts., Fort Smith, SG100002004

Fitzgerald Historic District, Roughly bounded by Rogers & Dodson Aves., S I, S 22nd & S 25th Sts., Fort Smith, SG100002005

Wanslow, Robert, House, 2815 S Q St, Fort Smith, SG100002007

Washington County

Leach, R.L., Grocery Store, W side of Dutch Mills Rd., 175 ft. from Cty. Rd. 418, Dutch Mills, SG100002013

CALIFORNIA

Los Angeles County

Malibu Historic District, Roughly along Pacific Coast from E of Malibu Pier to Malibu Colony privacy fence, Malibu vicinity, SG100002022

FLORIDA

Leon County

Leon County Health Unit Building 325 E Gaines St., Tallahassee, SG100002023

Works Progress Administration Building, 319 East Gaines Street, Tallahassee, MP100002025

MASSACHUSETTS

Worcester County

Manchaug Village Historic District, Roughly bounded by Putnam Hill, Whitins, Morse, Mumford & Manchaug Rds. Ledge, Main, 3rd & Maple Sts., Stevens Pond, Sutton, SG100002026

MISSISSIPPI

Coahoma County

Myrtle Hall Branch Library for Negroes, 1109 State St., Clarksdale, SG100002027

Forrest County

Temple B'nai Israel, 901 Mamie St., Hattiesburg, SG100002028

Hinds County

Casey Elementary School, 2101 Lake Cir., Jackson, SG100002029

Spann, Pearl, Elementary School, 1615 Brecon Dr., Jackson, SG100002030

MISSOURI

Greene County

Producers Ice and Manufacturing Company, 524 W Chase St., Springfield, SG100002031

Jackson County

Kansas City Power and Light Company Substation “A”, 2645 Madison Ave., Kansas City, SG100002032

Michelson Building, 3125-3133 Troost Ave., Kansas City, SG100002033

National Cloak and Suit Company, 5401 Independence Ave., Kansas City, SG100002034

Shankman Building, 3115-3123 Troost Ave., Kansas City, SG100002035

Johnson County

Miller, Joseph M., Mausoleum, .8 mi. N of jct. of MO 131 & 2nd St., Holden, SG100002036

Perry County

Mack's Chapel Cemetery, 1.25 mi. E of jct. Hwy. D & Cty. Rd. 439, Altenburg vicinity, SG100002037

St. Louis Independent city, Pruitt School, 1212 N 22nd St., St Louis (Independent City), SG100002038

Warren County

Glosemeyer General Store, 16011 Concord Hill Rd., Marthasville vicinity, SG100002039

NEW JERSEY

Hunterdon County, Old Stone Presbyterian Church, Corner of Oak Summit Rd. & Cty. Rd. 519, Kingwood Township, SG100002053

NEW YORK

Monroe County

G.W. Todd—Wilmot Castle Company Building, 1255 University Ave., Rochester, SG100002054

New York County

Harlem African Burial Ground, 2460 2nd Ave., Manhattan, SG100002055

NORTH CAROLINA

Buncombe County

Chiles, James Madison and Leah Arcouet, House, 21 Chiles Ave., Asheville, SG100002045

Burke County

Magnolia Place (Boundary Decrease), 1201 Burkemont Ave., Morganton vicinity, BC100002046

Caswell County

Caswell County Training School, 403 Dillard School Dr., Yanceyville, SG100002047

Haywood County

Windover, 40 Old Hickory St., Waynesville, SG100002048

Martin County

West Martin School, 402 S Cherry St., Oak City, SG100002049

Orange County

North Carolina Industrial Home for Colored Girls, 201 Redman Crossing, Efland vicinity, SG100002051

Rowan County

East Spencer Graded School, 110 S Long St., East Spencer, SG100002050

RHODE ISLAND

Providence County

Central Falls Mill Historic District (Boundary Increase), (Central Falls MRA), 381, 396, 403, 404, 413, 548, 558 Roosevelt Ave., Central Falls, BC100002058

Jenckes Spinning Company, Weeden, Barton, Pine, Lily Pond & Conant Sts., Pawtucket, SG100002059

SOUTH CAROLINA

Anderson County

Pendleton Cotton Mill, 250 S. Depot St., Pendleton, SG100002060

A request for removal has been made for the following resources:

ARKANSAS

Benton County

Daniels House, (Benton County MRA), 902 E. Central, Bentonville, OT87002317

Blake House, (Benton County MRA), 211 SE A St., Bentonville, OT87002324

Drane House, (Benton County MRA), 1004 S. First St., Rogers, OT87002389

Stroud House, (Benton County MRA), 204 S. Third St., Rogers, OT87002400

Crawford County

Mills, Henry Clay, House, 425 N. 15th St., Van Buren, OT77000250

Jefferson County

Parker Sr., Dr. John Walter, House, 1405 S. Alabama St., Pine Bluff, OT03000947

Brown, Floyd B., House, 1401 S. Georgia St., Pine Bluff, OT04001493

Dilley House, 656 Laurel St., Pine Bluff, OT77000258

Phillips County

New Light Missionary Baptist Church, (Ethnic and Racial Minority Settlement of the Arkansas Delta MPS), 522 Arkansas St., Helena, OT95001410

Randolph County

Black River Bridge, (Historic Bridges of Arkansas MPS), US 67, over the Black River, Pocahontas, OT90000522

Searcy County

Dugger and Schultz Millinery Store Building, (Searcy County MPS), Jct. of Glade and Nome Sts., SW corner, Marshall, OT93000973

Sebastian County

McLeod, Angus, House, 912 N. 13th St., Fort Smith, OT78000632

Washington County

Durham School, (Public Schools in the Ozarks MPS), Co. Rd. 183, Durham, OT92001121

White County

Hicks, Ida, House, (White County MPS), 410 W. Arch St., Searcy, OT91001180

Arnold Farmstead, (White County MPS), Off Maple St. S of Deener Cr., Searcy, OT91001187

Sears, Dean L. C., House, (White County MPS), 805 E. Center St., Searcy, OT91001208

Rascoe House, (White County MPS), 702 Main St., Searcy, OT91001213

Rogers, Bob, House, (White County MPS), Jct. of S. Spring St. and W. Woodruff Ave., Searcy, OT91001219

Coward House, (White County MPS), 1105 N. Maple St., Searcy, OT91001229

Rodgers, Porter, Sr., House, (White County MPS), Jct. of N. Oak and E. Race Sts., Searcy, OT91001230

Lightle House, (White County MPS), 107 N. Elm St., Searcy, OT91001244

Smith—Moore House, (White County MPS), 901 N. Main St., Beebe, OT91001246

Lemay House, (White County MPS), 305 S. Cypress St., Beebe, OT91001254

Cross House, (White County MPS), 410 S. Main St., Beebe, OT91001259

Additional documentation has been received for the following resource:

NEW JERSEY

Essex County

Military Park Commons Historic District, Roughly bounded by Washington Pl., McCarter Hwy, E. Park St. and Raymond Blvd., Newark, AD04000649

Nominations submitted by Federal Preservation Officers:

The State Historic Preservation Officer reviewed the following nominations and responded to the Federal Preservation Officer within 45 days of receipt of the nominations and supports listing the properties in the National Register of Historic Places.

MONTANA

Missoula County

Double Arrow Lookout, Approx. 3 mi. SW of Seeley Lake, Seeley Lake vicinity, MP100002041

Mineral Peak Lookout, Mineral Pk., Lolo NF, Missoula vicinity, MP100002042

West Fork Butte Lookout, West Fork Butte, Lolo NF, Missoula vicinity, MP100002043

Ravalli County

Boulder Point Lookout, 2 mi. NW of West Fork Ranger Station, Darby vicinity, MP100002044

OKLAHOMA

McClain County

United States Post Office Purcell,228 W Main St., Purcell, MP100002056

Muskogee County

“Spirit of the American Doughboy” Statue, Jack C. Montgomery VA Medical Center, 1011 Honor Heights Dr., Muskogee, SG100002057

Authority: 60.13 of 36 CFR part 60

Dated: December 21, 2017.
J. Paul Loether,
Chief, National Register of Historic Places/National Historic Landmarks Program and Keeper, National Register of Historic Places.

[FR Doc. 2018-00765 Filed 1-17-18; 8:45 am]

BILLING CODE 4312-52-P